DEPARTMENT OF HEALTH AND HUMAN SERVICES

National Institutes of Health

National Institute of General Medical Sciences; Amended Notice of Meeting

Notice is hereby given of a change in the meeting of the MARC Review Subcommittee A, February 26, 2004, 8 a.m. to February 27, 2004, 5 p.m., Holiday Inn Select Bethesda, 8120 Wisconsin Ave., Bethesda, MD, 20814 which was published in the Federal Register on February 5, 2004, 69 FR 5558.

The meeting will be held on February 26, 2004, at the Holiday Inn Select Bethesda from 8 a.m. to 5 p.m. The meeting is closed to the public.

Dated: February 18, 2004.
LaVerne Y. Stringfield,
Director, Office of Federal Advisory Committee Policy.

[FR Doc. 04-4078 Filed 2-24-04; 8:45 am]

BILLING CODE 4140-01-M